DEPARTMENT OF THE INTERIOR

National Park Service

[NPS-WASO-NAGPRA-23337; PPWOCRADN0-PCU00RP14.R50000]

Notice of Intent To Repatriate Cultural Items: Field Museum of Natural History, Chicago, IL

AGENCY: National Park Service, Interior.

ACTION: Notice.

SUMMARY: The Field Museum of Natural History, in consultation with the appropriate Indian tribes or Native Hawaiian organizations, has determined that the cultural items listed in this notice meet the definition of sacred objects. Lineal descendants or representatives of any Indian tribe or Native Hawaiian organization not identified in this notice that wish to claim these cultural items should submit a written request to the Field Museum of Natural History. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Field Museum of Natural History at the address in this notice by July 14, 2017.

ADDRESSES: Helen Robbins, Field Museum of Natural History, 1400 South Lake Shore Drive, Chicago, IL 60605, telephone (312) 665-7317, email hrobbins@fieldmuseum.org.

SUPPLEMENTARY INFORMATION: Notice is here given in accordance with the Native American Graves Protection and Repatriation Act (NAGPRA), 25 U.S.C. 3005, of the intent to repatriate cultural items under the control of the Field Museum of Natural History, Chicago, IL, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In August of 1892, two cultural items were removed from the Quinault Indian Reservation in the State of Washington. Museum records indicate that these cultural items are Quinault in origin, and were collected by Reverend Myron Eells on behalf of the Washington World's Fair Commission for display at the World's Columbian Exposition. The two sacred objects are tamahnousing figures, and were accessioned by The Field Museum of Natural History in 1893. One sacred object is a red painted wooden anthropomorphic figure with rattles around its neck (cat. 19789). The figure represents the spirit djilo'tsanomic, who helped heal soul loss and would have been used by a shaman. The second sacred object is a cedar bark figure with attached rattles (cat. 19645). A similar figure is described by Ronald Olson as a “doctor of the setting sun.” According to Hilary Stewart, it would have been used in a Salmon Ceremony. Both figures are spirit helpers that would be used as tamahnousing items by practitioners of the traditional Quinault tamahnousing religion. They are ceremonial objects that are necessary today for the revitalization and present-day practice of Quinault traditional religion.

The Quinault are culturally affiliated with the area from which the sacred objects were removed. This assessment is supported by archival records and reports, museum records, Department of the Interior sources, academic sources, and correspondence with Quinault representatives.

Determinations Made by the Field Museum of Natural History

Officials of the Field Museum of Natural History have determined that:

• Pursuant to 25 U.S.C. 3001(3)(C), the two cultural items described above are specific ceremonial objects needed by traditional Native American religious leaders for the practice of traditional Native American religions by their present-day adherents.

• Pursuant to 25 U.S.C. 3001(2), there is a relationship of shared group identity that can be reasonably traced between the sacred objects and the Quinault Indian Nation (previously listed as the Quinault Tribe of the Quinault Reservation, Washington).

Additional Requestors and Disposition

Lineal descendants or representatives of any Indian tribe or Native Hawaiian organization not identified in this notice that wish to claim these cultural items should submit a written request with information in support of the claim to Helen Robbins, Field Museum of Natural History, 1400 South Lake Shore Drive, Chicago, IL 60605, telephone (312) 665-7317, email hrobbins@fieldmuseum.org, by July 14, 2017. After that date, if no additional claimants have come forward, transfer of control of the sacred objects to the Quinault Indian Nation (previously listed as the Quinault Tribe of the Quinault Reservation, Washington) may proceed.

The Field Museum of Natural History is responsible for notifying the Quinault Indian Nation (previously listed as the Quinault Tribe of the Quinault Reservation, Washington) that this notice has been published.

Dated: May 2, 2017.
Melanie O'Brien,
Manager, National NAGPRA Program.

[FR Doc. 2017-12292 Filed 6-13-17; 8:45 am]

BILLING CODE 4312-52-P